DEPARTMENT OF THE INTERIOR

Bureau of Land Management

[LLCON05000-L16100000-DU0000-16X]

Notice of Meeting, Northwest Resource Advisory Council's Travel Management Sub-Group

AGENCY: Bureau of Land Management, Interior.

ACTION: Notice of public meeting.

SUMMARY: In accordance with the Federal Land Policy and Management Act and the Federal Advisory Committee Act of 1972, the U.S. Department of the Interior, Bureau of Land Management (BLM) Northwest Resource Advisory Council (RAC) Travel Management Sub-Group will meet as indicated below.

DATES: The Northwest RAC Travel Management Sub-Group has scheduled a meeting November 16, 2015, from 1 to 3 p.m., with a public comment period regarding matters on the agenda at 2 p.m. A specific agenda for the meeting will be available prior to the meeting at http://www.blm.gov/co/st/en/BLM_Resources/racs/nwrac.html.

ADDRESSES: The meeting will be held at the BLM White River Field Office, 220 E. Market St., Meeker, CO 81641.

FOR FURTHER INFORMATION CONTACT: Heather Sauls, Planning and Environmental Coordinator, White River Field Office, see address above. Phone: (970) 878-3855. Email: hsauls@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member Northwest RAC advises the Secretary of the Interior, through the BLM, on a variety of planning and management issues associated with public land management in northwest Colorado. The Northwest RAC has formed a 13-member Travel Management Sub-Group to assist with the BLM Colorado White River Field Office's Travel and Transportation Management Resource Management Plan Amendment. The sub-group provides recommendations to the Northwest RAC but does not directly advise the BLM. This meeting is open to the public. At this meeting, the sub-group will discuss: introductions of new members; an overview of the travel management planning process within the White River Field Office; and the roles and responsibilities of the sub-group, the RAC and the BLM during this planning effort. The public is able to make oral comments to the sub-group at 2 p.m. or submit written comments for the sub-group's consideration. Summary minutes for the Northwest RAC Travel Management Sub-Group meetings will be maintained in the White River Field Office and will be available for public inspection and reproduction during regular business hours for 30 days following the meeting.

Ruth Welch,
Colorado State Director.

[FR Doc. 2015-26997 Filed 10-22-15; 8:45 am]

BILLING CODE 4310-JB-P